DEPARTMENT OF ENERGY

Notice of Orders Issued Under Section 3 of the Natural Gas Act During November 2019

AGENCY: Office of Fossil Energy, Department of Energy.

ACTION: Notice of orders.

| FE Docket Nos.
SPOTX ENERGY, LLC | 19-104-LNG
SPOTX ENERGY, LLC | 19-105-LNG
SPOTLIGHT ENERGY, LLC | 19-121-NG
EQT ENERGY, LLC | 19-122-NG
SOUTHERN CALIFORNIA GAS COMPANY | 19-126-NG
VALLEY CROSSING PIPELINE, LLC | 19-137-NG
SARANAC POWER PARTNERS L.P. | 19-123-NG
MERCURIA COMMODITIES CANADA CORPORATION | 19-127-NG
VERMONT GAS SYSTEMS, INC | 19-128-NG
SPRAGUE OPERATING RESOURCES, LLC. | 19-132-NG; 18-184-NG
CNOOC MARKETING U.S.A. INC. | 19-07-NG
ROCHESTER GAS AND ELECTRIC CORPORATION | 19-130-NG
AUX SABLE CANADA LP | 19-129-NG
CONOCOPHILLIPS CANADA MARKETING & TRADING ULC | 19-136-NG

SUMMARY: The Office of Fossil Energy (FE) of the Department of Energy gives notice that during November 2019, it issued orders granting authority to import and export natural gas, to export liquefied natural gas (LNG), and to vacate prior authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on January 16, 2020.
Amy Sweeney,
Director, Office of Regulation, Analysis, and Engagement, Office of Oil and Natural Gas.

APPENDIX

DOE/FE Orders Granting Import/Export Authorizations
4461 | 11/08/19 | 19-104-LNG | SpotX Energy, LLC | Order 4461 granting long-term authority to export LNG to Free Trade Agreement Nations, and long-term authority for Small-scale exports of LNG.
4462 | 11/08/19 | 19-105-LNG | SpotX Energy, LLC | Order 4462 granting blanket authority to export LNG to Free Trade Agreement Nations, and blanket authority for Small-scale exports of LNG.
4456 | 11/12/19 | 19-121-NG | Spotlight Energy, LLC | Order 4456 granting blanket authority to import/export natural gas from/to Canada.
4457 | 11/12/19 | 19-122-NG | EQT Energy, LLC | Order 4457 granting blanket authority to import/export natural gas from/to Canada.
4458 | 11/12/19 | 19-126-NG | Southern California Gas Company | Order 4458 granting blanket authority to import/export natural gas from/to Canada.
4459 | 11/12/19 | 19-137-NG | Valley Crossing Pipeline, LLC | Order 4459 granting blanket authority to import/export natural gas from/to Mexico.
4463 | 11/12/19 | 19-123-NG | Saranac Power Partners L.P | Order 4463 granting blanket authority to import natural gas from Canada.
4464 | 11/12/19 | 19-127-NG | Mercuria Commodities Canada Corporation | Order 4464 granting blanket authority to import/export natural gas from/to Canada.
4465 | 11/12/19 | 19-128-NG | Vermont Gas Systems, Inc | Order 4465 granting blanket authority to import natural gas from Canada.
4466; 4324-A | 11/12/19 | 19-132-NG; 18-184-NG | Sprague Operating Resources, LLC | Order 4466 granting blanket authority to import natural gas from Canada, and vacating prior authorization (Order 4324-A).
4343-A | 11/12/19 | 19-07-NG | CNOOC Marketing U.S.A. Inc | Order 4343-A vacating blanket authority to import/export natural gas from/to Canada/Mexico.
4468 | 11/20/19 | 19-130-NG | Rochester Gas and Electric Corporation | Order 4468 granting blanket authority to import/export natural gas from/to Canada.
4467 | 11/21/19 | 19-129-NG | Aux Sable Canada LP | Order 4467 granting blanket authority to import natural gas from Canada.
4469 | 11/21/19 | 19-136-NG | ConocoPhillips Canada Marketing & Trading ULC | Order 4469 granting blanket authority to import/export natural gas from/to Canada.

[FR Doc. 2020-01070 Filed 1-22-20; 8:45 am]

BILLING CODE 6450-01-P